DEPARTMENT OF TRANSPORTATION

Surface Transportation Board

[STB Finance Docket No. 34670]

First Coast Railroad, Inc.—Lease and Operation Exemption—CSX Transportation, Inc.

First Coast Railroad, Inc. (FCRD), a noncarrier, has filed a verified notice of exemption under 49 CFR 1150.31 to lease, from CSX Transportation, Inc. (CSXT), and operate approximately 31.83 miles of rail line consisting of the Kingsland Subdivision between Yulee, FL, milepost S 611.95, and the end of the track at Seals, GA, milepost S 593.4, and the Fernandina Subdivision between Yulee, milepost SMA 35.1, and the end of the track at Fernandina, FL, milepost SMA 48.38.

FCRD certifies that its projected annual revenues as a result of this transaction will not exceed those that would qualify it as a Class III rail carrier, and further certifies that its projected annual revenues will not exceed $5 million per year. The transaction was expected to be consummated on or after April 9, 2005.

This transaction is related to STB Finance Docket No. 34671, Genesee & Wyoming Inc.—Continuance in Control Exemption—First Coast Railroad, Inc., wherein Genesee & Wyoming Inc. has concurrently filed a verified notice of exemption to continue in control of FCRD upon its becoming a rail carrier.

If the notice contains false or misleading information, the exemption is void ab initio. Petitions to revoke the exemption under 49 U.S.C. 10502(d) may be filed at any time. The filing of a petition to revoke will not automatically stay the transaction.

An original and 10 copies of all pleadings, referring to STB Finance Docket No. 34670, must be filed with the Surface Transportation Board, 1925 K Street, NW., Washington, DC 20423-0001. In addition, one copy of each pleading must be served on Eric M. Hocky, Gollatz, Griffin & Ewing, P.C., Four Penn Center, Suite 200, 1600 John F. Kennedy Blvd., Philadelphia, PA 19103-2808.

Board decisions and notices are available on our Web site at http://www.stb.dot.gov.

Decided: April 18, 2005.
By the Board, David M. Konschnik, Director, Office of Proceedings.
Vernon A. Williams,
Secretary.

[FR Doc. 05-8107 Filed 4-22-05; 8:45 am]

BILLING CODE 4915-01-P